NATIONAL AERONAUTICS AND SPACE ADMINISTRATION

14 CFR Part 1216

RIN 2700-AE20

[Docket No. NASA-2015-0002]

Removal of Obsolete Regulations

AGENCY: National Aeronautics and Space Administration.

ACTION: Direct final rule.

SUMMARY: This direct final rule makes non-substantive changes by removing regulations that are captured in NASA internal requirements. The revisions to this rule are part of NASA's retrospective plan completed in August 2011 under Executive Order (E.O.) 13563. NASA's full plan can be accessed on the Agency's open Government Web site at http://www.nasa.gov/open/.

DATES: This direct final rule is effective on July 27, 2015. Comments due on or before June 29, 2015. If adverse comments are received, NASA will publish a timely withdrawal of the rule in the Federal Register.

ADDRESSES: Comments must be identified with RIN 2700-AE20 and may be sent to NASA via the Federal E-Rulemaking Portal: http://www.regulations.gov. Follow the online instructions for submitting comments. Please note that NASA will post all comments on the Internet with changes, including any personal information provided.

FOR FURTHER INFORMATION CONTACT: Nanette Jennings, 202-358-0819.

SUPPLEMENTARY INFORMATION:

Direct Final Rule Adverse Comments

NASA has determined this rulemaking meets the criteria for a direct final rule because it involves non-substantive changes to remove a section from 14 CFR part 1216 that is captured in internal NASA requirements. No opposition to the changes and no significant adverse comments are expected. However, if the Agency receives a significant adverse comment, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

Background

On January 18, 2011, President Obama signed E.O. 13563, Improving Regulations and Regulatory Review, directing agencies to develop a plan for a retrospective analysis of existing regulations. NASA developed its plan and published it on the Agency's open Government Web site at http://www.nasa.gov/open/. The Agency conducted an analysis of its existing regulations to comply with the Order and determined that subpart 1216.2, Floodplain and Wetlands Management, should be repealed.

Subpart 1216.2 was promulgated January 4, 1979, [44 FR 1089] in response to Executive Order (E.O.) 11988, Floodplain Management, and E.O. 11990, Protection of Wetlands. Neither E.O. mandates that these requirements be codified in the CFR. For example, E.O. 11988 subsection 2(d) states in pertinent part “. . . each agency shall issue or amend existing regulations and procedures . . .;” and E.O. 11990 section 6 states in pertinent part “. . . agencies shall issue or amend their existing procedures . . .” Therefore, this subpart will be repealed because it is now captured in NASA Interim Directive (NID) 8500.100, Floodplain and Wetlands Management. NID 8500.100 is accessible at http://nodis3.gsfc.nasa.gov/OPD_docs/NID_8500_100_.pdf.

Statutory Authority

The National Aeronautics and Space Act (the Space Act), 51 U.S.C. 20113 (a), authorizes the Administrator of NASA to make, promulgate, issue, rescind, and amend rules and regulations governing the manner of its operations and the exercise of the powers vested in it by law.

Regulatory Analysis

Executive Order 12866, Regulatory Planning and Review and Executive Order 13563, Improvement Regulation and Regulation Review

Executive Orders 13563 and 12866 direct agencies to assess all costs and benefits of available regulatory alternatives and, if regulation is necessary, to select regulatory approaches that maximize net benefits (including potential economic, environmental, public health and safety effects, distributive impacts, and equity). E.O. 13563 emphasizes the importance of quantifying both costs and benefits of reducing costs, harmonizing rules, and promoting flexibility. This rule has been designated as “not significant” under section 3(f) of E.O. 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule removes two subparts from Title 14 of the CFR that are already reflected in existing NASA internal requirements and, therefore, does not have a significant economic impact on a substantial number of small entities.

Review Under the Paperwork Reduction Act

This direct final rule does not contain any information collection requirements subject to the Paperwork Reduction Act of 1995 (44 U.S.C. 3501 et seq.).

Review Under E.O. 13132

E.O. 13132, “Federalism,” 64 FR 43255 (August 4, 1999) requires regulations be reviewed for Federalism effects on the institutional interest of states and local governments, and if the effects are sufficiently substantial, preparation of the Federal assessment is required to assist senior policy makers. The amendments will not have any substantial direct effects on state and local governments within the meaning of the E.O. Therefore, no Federalism assessment is required.

List of Subjects in 14 CFR Part 1216

Flood plains.

PART 1216—ENVIRONMENTAL POLICY

Accordingly, under the authority of the National Aeronautics and Space Act, as amended (51 U.S.C. 20113), NASA amends 14 CFR part 1216 by removing and reserving subpart 1216.2, consisting of §§ 1216.200 through 1216.205.

Cheryl E. Parker,
NASA Federal Register Liaison Officer.

[FR Doc. 2015-12914 Filed 5-27-15; 8:45 am]

BILLING CODE 7510-13-P